SMALL BUSINESS ADMINISTRATION

[Disaster Declaration #16815 and #16816; Pennsylvania Disaster Number PA-00108]

Administrative Declaration Amendment of a Disaster for the Commonwealth of Pennsylvania

AGENCY: U.S. Small Business Administration.

ACTION: Amendment 2.

SUMMARY: This is an amendment of the Administrative declaration of a disaster for the Commonwealth of Pennsylvania dated 12/18/2020.

Incident: Tropical Storm Isaias.

Incident Period: 08/04/2020.

DATES: Issued on 03/16/2021.

Physical Loan Application Deadline Date: 04/19/2021.

Economic Injury (EIDL) Loan Application Deadline Date: 09/20/2021.

ADDRESSES: Submit completed loan applications to: U.S. Small Business Administration, Processing and Disbursement Center, 14925 Kingsport Road, Fort Worth, TX 76155.

FOR FURTHER INFORMATION CONTACT:

A. Escobar, Office of Disaster Assistance, U.S. Small Business Administration, 409 3rd Street SW, Suite 6050, Washington, DC 20416, (202) 205-6734.

SUPPLEMENTARY INFORMATION: The notice of an Administrative declaration for the Commonwealth of Pennsylvania, dated 12/18/2020 is hereby amended to extend the deadline for filing applications for physical damages as a result of this disaster to 04/19/2021.

All other information in the original declaration remains unchanged.

(Catalog of Federal Domestic Assistance Number 59008)

Tami Perriello,
Acting Administrator.

[FR Doc. 2021-05812 Filed 3-19-21; 8:45 am]

BILLING CODE 8026-03-P